DEPARTMENT OF THE INTERIOR

Fish and Wildlife Service

[FWS-R1-R-2015-N089; 1265-0000-10137-S3]

Deer Flat National Wildlife Refuge, Canyon, Payette, Owyhee, and Washington Counties, ID, and Malheur County, OR; Comprehensive Conservation Plan and Record of Decision for Final Environmental Impact Statement

AGENCY: Fish and Wildlife Service, Interior.

ACTION: Notice of availability.

SUMMARY: We, the U.S. Fish and Wildlife Service (Service), announce the availability of the Deer Flat National Wildlife Refuge (Refuge) comprehensive conservation plan (CCP) and record of decision (ROD) for the final environmental impact statement (EIS). The CCP describes the Refuge's management direction for the next 15 years, and includes the ROD, which explains our selection of Alternative 2 as the Refuge's management direction.

DATES: The Regional Director, Pacific Region, U.S. Fish and Wildlife Service, signed the ROD on April 3, 2015.

ADDRESSES: The libraries providing public viewing of the CCP/ROD are listed under SUPPLEMENTARY INFORMATION. You may view or download a copy of the CCP/ROD at the Refuge's Web site at http://www.fws.gov/deerflat/refugeplanning.html, or request a CD-ROM copy of the CCP/ROD by one of the following methods:

Email: deerflat@fws.gov. Include “Deer Flat Refuge draft CCP/EIS” in the subject line of the message.

Fax: Attn: Refuge Manager, 208-467-1019.

U.S. Mail: Deer Flat National Wildlife Refuge, 13751 Upper Embankment Road, Nampa, ID 83686.

In-Person Viewing or Pickup: Call 208-467-9278 to make an appointment during regular business hours at the above address.

FOR FURTHER INFORMATION CONTACT: Refuge Manager, 208-467-9278 (phone).

SUPPLEMENTARY INFORMATION:

Introduction

With this notice, we finalize the CCP process for Deer Flat Refuge. We started this process by publishing a notice of intent in the Federal Register on July 15, 2010 (75 FR 41232). We requested public comments on the draft CCP/EIS in a notice of availability published in the Federal Register on March 15, 2013 (78 FR 16526). For more information about the history and purposes of the Refuge, see that notice.

We completed a thorough analysis of impacts on the human environment and responded to public comments in the final CCP/EIS released to the public through a Federal Register notice published on February 20, 2015 (80 FR 9279).

We announce our decision and the availability of the CCP and ROD in accordance with National Environmental Policy Act (NEPA) (40 CFR 1506.6(b)) requirements. Alternative 2, as we described it in the final CCP/EIS, was selected for implementation at the Refuge. The CCP will guide Refuge management for 15 years.

Background

The National Wildlife Refuge System Administration Act of 1966, 16 U.S.C. 668dd-668ee (Refuge Administration Act), as amended by the National Wildlife Refuge System Improvement Act of 1997, requires us to complete a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP/ROD

Based on our comprehensive review and analysis of Deer Flat Refuge's resources and issues, the Service selected Alternative 2, our preferred alternative, for implementation, as it is described in the final CCP/EIS, with two modifications described below. In reaching our decision to implement Alternative 2, we identified and analyzed its impacts to the Refuge environment in the Draft and Final CCPs/EISs. Issues, comments, concerns, and opportunities identified by all stakeholders throughout the planning process were considered and addressed. A summary of public comments and our responses is available in the CCP, in Appendix H.

Changes Made to the Selected Alternative

The following changes were made to wildlife-dependent public uses in the Lake Lowell Unit in Alternative 2 after the final CCP/EIS was released:

Noncompetitive jogging, bicycling, and horseback riding groups of 10 or fewer people are allowed without a special use permit (SUP). An SUP is still required for groups larger than 10, and competitive events are still prohibited.

Boats using wake-generating devices (wake-boats) are compatible with stipulations, including requiring wake-boats to use ballast filtering systems to prevent invasive species introductions. Wakes that impact grebe nests are a concern; however, the new no-wake zones will provide some additional protection, and we will continue to evaluate effects on wildlife to ensure the use remains compatible.

Other CCP Actions

We will protect Lake Lowell's shoreline feeding and nesting sites for wintering and migratory birds by closing the lake October 1-April 14, establishing a 200-yard no-wake zone on the south side and in the Narrows, and expanding the southeast no-wake zone to Gotts Point.

Fishing and wildlife interpretation will be emphasized, and with increased law enforcement, Gotts Point will open to vehicles. We will increase wildlife inventory and monitoring, invasive species control, and restoration on the Snake River Islands Unit, and we will adjust closures to protect nesting and wading birds. Wildlife observation and hunting for deer, upland species, and waterfowl will be allowed on the unit, and most islands will be open for shoreline fishing and free-roam activities June 15-January 31; and heron- and gull-nesting islands will be open July 1-January 31. For additional details, the CCP/ROD is available on the Refuge's Web site: www.fws.gov/deerflat/refugeplanning.html. Implementing some of the CCP actions will be subject to the availability of funding and any additional compliance requirements.

Public Availability of Documents

Review the CCP/ROD at the following libraries and sources under ADDRESSES.

Caldwell Public Library, 1010 Dearborn St., Caldwell, ID 83605.

Homedale Public Library, 125 W Owyhee Ave., Homedale, ID 83628.

Lizard Butte District Library, 111 3rd Ave. W, Marsing, ID 83639.

Nampa Public Library, 101 11th Ave. S, Nampa, ID 83651.

Payette Public Library, 24 S 10th St., Payette, ID 83661.

Ada County District Library, 10664 W Victory Rd., Boise, ID 83709.

Richard Hannan,
Acting Regional Director, Pacific Region, Portland, Oregon.

[FR Doc. 2016-06628 Filed 3-24-16; 8:45 am]

BILLING CODE 4333-15-P